DEPARTMENT OF ENERGY

Federal Energy Regulatory Commission

Notice of Intent To File License Application, Filing of Pre-Application Document, Commencement of Licensing Proceeding, and Scoping; Request for Comments on the Pad and Scoping Document, and Identification of Issues and Associated Study Requests

March 16, 2009.

Free Flow Power Corporation | Project No. 12829-001.
FFP Project 28, LLC | Project No. 12861-001.
FFP Project 32, LLC | Project No. 12921-001.
FFP Project 41, LLC | Project No. 12930-001.
FFP Project 42, LLC | Project No. 12938-001.
FFP Project 54, LLC | Project No. 12915-001.
FFP Project 57, LLC | Project No. 12912-001.

a. Type of Filing: Notice of intent to file license application for original licenses and commencing licensing proceedings.

b. Project Nos.: P-12829, P-12861, P-12921, P-12930, P-12938, P-12915, P-12912.

c. Dated Filed: January 15, 2009.

d. Submitted By: Free Flow Power Corporation and its subsidiary limited liability corporations listed above (collectively referred to below as “Free Flow Power”).

e. Name of Projects: Greenville Bend Hydrokinetic Project, Scotlandville Bend Hydrokinetic Project, Kempe Bend Hydrokinetic Project, Ashley Point Hydrokinetic Project, Hope Field Point Hydrokinetic Project, Flora Creek Light Hydrokinetic Project, and McKinley Crossing Hydrokinetic Project (Lead Projects).

f. Locations: On the Mississippi River, in Arkansas, Illinois, Kentucky, Louisiana, Mississippi, Missouri, and Tennessee. No Federal lands are occupied by the project works or located within the project boundary.

g. Filed Pursuant to: 18 CFR Part 5 of the Commission's Regulations.

h. Potential Applicant Contact: Ms. Ramya Swaminathan, Vice President of Project Development, Free Flow Power, 33 Commercial Street, Gloucester, MA 01930, (978) 226-1531, rswaminathan@free-flow-power.com.

i. FERC Contact: Stephen Bowler at (202) 502-6861 or e-mail at stephen.bolwer@ferc.gov and Sarah Florentino at (202) 502-6863 or e-mail at sarah.florentino@ferc.gov.

j. We are asking Federal, State, local, and Tribal agencies with jurisdiction and/or special expertise with respect to environmental issues to cooperate with us in the preparation of the environmental document. Agencies who would like to request cooperating status should follow the instructions for filing comments described in paragraph o below. Cooperating agencies should note the Commission's policy that agencies that cooperate in the preparation of the environmental document cannot also intervene. See, 94 FERC ¶ 61,076 (2001).

k. With this notice, we are initiating informal consultation with: (a) The U.S. Fish and Wildlife Service and/or NOAA Fisheries under section 7 of the Endangered Species Act and the joint agency regulations thereunder at 50 CFR, Part 402 and (b) the State Historic Preservation Officer, as required by section 106, National Historical Preservation Act, and the implementing regulations of the Advisory Council on Historic Preservation at 36 CFR 800.2.

l. With this notice, we are designating Free Flow Power as the Commission's non-Federal representative for carrying out informal consultation pursuant to section 106 of the National Historic Preservation Act.

m. Free Flow Power filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

o. With this notice, we are soliciting comments on the PAD and Scoping Document 1 (SD1), as well as study requests. All comments on the PAD and SD1, and study requests should be sent to the address above in paragraph h. In addition, all comments on the PAD and SD1, study requests, requests for cooperating agency status, and all communications to and from Commission staff related to the merits of the potential application (original and eight copies) must be filed with the Commission at the following address: Kimberly D. Bose, Secretary, Federal Energy Regulatory Commission, 888 First Street, NE., Washington, DC 20426. All filings with the Commission must include on the first page, the project names (Greenville Bend Hydrokinetic Project, Scotlandville Bend Hydrokinetic Project, Kempe Bend Hydrokinetic Project, Ashley Point Hydrokinetic Project, Hope Field Point Hydrokinetic Project, Flora Creek Light Hydrokinetic Project, and McKinley Crossing Hydrokinetic Project) and numbers (V12829-001, P-12861-001, P-12921-001, P-12930-001, P-12938-001, P-12915-001, and P-12912-001 respectively), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by May 15, 2009.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

p. Our current intent is to prepare an Environmental Impact Statement (EIS).

Scoping Meetings

Commission staff will hold two initial scoping meetings in the vicinity of the projects at the time and place noted below. The daytime meeting will focus on resource agency, Indian Tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:

Daytime Scoping Meeting

Date: Tuesday, April 14, 2009.

Time: 2 p.m.

Location: Vicksburg Convention Center, 1600 Mulberry Street, Vicksburg, MS 39180.

Phone: Toll free (866) 822-6338.

Evening Scoping Meeting

Date: Tuesday, April 14, 2009.

Time: 7 p.m.

Location: Vicksburg Convention Center, 1600 Mulberry Street, Vicksburg, MS 39180.

Phone: Toll free (866) 822-6338.

Scoping Document 1 (SD1), which outlines the subject areas to be addressed in the environmental document, was mailed to the individuals and entities on the Commission's mailing list. Copies of SD1 will be available at the scoping meetings, or may be viewed on the Web at http://www.ferc.gov, using the “eLibrary” link. Follow the directions for accessing information in paragraph n. Based on all oral and written comments, a Scoping Document 2 (SD2) may be issued. SD2 may include a revised process plan and schedule, as well as a list of issues, identified through the scoping process. We will announce additional scoping meetings at locations near the proposed Lead Projects and site visits at a later date.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of Federal, State, and Tribal permitting and certification processes; and (5) discuss the appropriateness of any Federal or State agency or Indian Tribe acting as a cooperating agency for development of an environmental document.

Meeting participants should come prepared to discuss their issues and/or concerns. Please review the PAD in preparation for the scoping meetings. Directions on how to obtain a copy of the PAD and SD1 are included in item n. of this document.

Meeting Procedures

The meetings will be recorded by a stenographer and will become part of the formal record of the Commission proceedings on the projects.

Kimberly D. Bose,
Secretary.

[FR Doc. E9-6283 Filed 3-23-09; 8:45 am]

BILLING CODE